ENVIRONMENTAL PROTECTION AGENCY

[EPA-R09-SFUND-2018-08; FRL-9975-49—Region 9]

Anaconda Copper Mine, Yerington, NV: Proposed Settlement Agreement and Order on Consent

AGENCY: Environmental Protection Agency (EPA).

ACTION: Notice of proposed settlement; request for public comment.

SUMMARY: This notice announces the availability for review and comment of an administrative Settlement Agreement and Order on Consent (“Settlement”) under the Comprehensive Environmental Response, Compensation, and Liability Act of 1980, as amended (“CERCLA”), between the U.S. Environmental Protection Agency (“EPA”), and Atlantic Richfield Company regarding the Anaconda Copper Mine Site (“Site”) in Yerington, Nevada. The Settlement requires Atlantic Richfield Company to reimburse EPA $3,000,000 for Past Response Costs at the Site.

DATES: Comments must be received on or before April 16, 2018.

ADDRESSES: The Settlement Agreement is available for public inspection at the United States Environmental Protection Agency, Superfund Records Center, 75 Hawthorne Street, Room 3110, San Francisco, California 94105. Telephone: 415-947-8717. A copy of the Settlement is also available at the following link: https://semspub.epa.gov/work/09/100005264.pdf. Comments should be addressed to Dustin Minor, Assistant Regional Counsel, Office of Regional Counsel (ORC-3), U.S. Environmental Protection Agency, 75 Hawthorne Street, San Francisco, CA 94105; or Email: minor.dustin@epa.gov; and should reference the Anaconda Copper Mine Site, EPA R9-2018-08.

FOR FURTHER INFORMATION CONTACT: Dustin Minor, Assistant Regional Counsel, Office of Regional Counsel (ORC-3), Environmental Protection Agency, Region 9, 75 Hawthorne Street, San Francisco, CA 94105; tel: (415) 972-3888; Minor.Dustin@epa.gov.

SUPPLEMENTARY INFORMATION: EPA deferred the non-tribal portion of the Site to the Nevada Division of Environmental Protection (NDEP) on February 5, 2018. In addition to requiring Atlantic Richfield Company to reimburse EPA $3,000,000, the Settlement terminates the existing administrative orders referred to in the Settlement. EPA terminated the existing administrative orders because future work at the non-tribal portion of the Site will be overseen by NDEP. EPA is only seeking comment on the cost recovery component of the Settlement. EPA will consider all comments submitted by the date set forth above regarding Section V. (Payment of Response Costs) and EPA may withhold consent from, or seek to modify, all or part of Section V. (Payment of Response Costs) if comments received disclose facts or considerations that indicate that Section V. (Payment of Response Costs) is inappropriate, improper, or inadequate.

Dated: March 5, 2018.
Enrique Manzanilla,
Director, Superfund Division, U.S. Environmental Protection Agency, Region 9.

[FR Doc. 2018-05407 Filed 3-15-18; 8:45 am]

BILLING CODE 6560-50-P